DEPARTMENT OF THE INTERIOR

Bureau of Land Management

[BLM_AZ_FRN: MO#4500181293]

Notice of Segregation of Public Land for the Socorro Solar Project, Parker Solar Project, and Eagle Eye Solar Project, La Paz County, Arizona

AGENCY: Bureau of Land Management, Department of the Interior.

ACTION: Notice of segregation.

SUMMARY: Through this notice the Bureau of Land Management (BLM) is segregating public lands included in the right-of-way applications for the Socorro Solar Project, Parker Solar Project, and Eagle Eye Solar Project from appropriation under the public land laws, including the Mining Law, but not the Mineral Leasing or Material Sales Acts, for a period of 2 years from the date of publication of this notice, subject to valid existing rights. This segregation is to allow for the orderly administration of the public lands to facilitate consideration of development of renewable energy resources. The public lands segregated by this notice total 11,560.28 acres.

DATES: This segregation for the lands identified in this notice is effective on September 24, 2024.

FOR FURTHER INFORMATION CONTACT: Derek Eysenbach, Project Manager, telephone: 601-417-9505; address: Bureau of Land Management, Arizona State Office, 1 North Central Ave, Suite 800, Phoenix, Arizona 85004; email: deysenbach@blm.gov. Individuals in the United States who are deaf, deafblind, hard of hearing, or have a speech disability may dial 711 (TTY, TDD, or TeleBraille) to access telecommunications relay services for contacting Derek Eysenbach. Individuals outside the United States should use the relay services offered within their country to make international calls to the point-of-contact in the United States.

SUPPLEMENTARY INFORMATION: Regulations found at 43 CFR 2091.3-1(e) and 2804.25(f) allow the BLM to temporarily segregate public lands within a right-of-way application area for solar energy development from the operation of the public land laws, including the Mining Law, by publication of a Federal Register notice. The BLM uses this temporary segregation authority to preserve its ability to approve, approve with modifications, or deny proposed rights-of-way, and to facilitate the orderly administration of the public lands. This temporary segregation is subject to valid existing rights, including existing mining claims located before this segregation notice. Licenses, permits, cooperative agreements, or discretionary land use authorizations of a temporary nature that would not impact lands identified in this notice may be allowed with the approval of an authorized officer of the BLM during the segregation period. The lands segregated under this notice are legally described as follows:

Socorro Solar Project

Gila and Salt River Meridian, Arizona

T. 3 N., R. 13 W.,

Sec. 1;

Sec. 2, lot 1, SE¼NE¼, S½SW¼, NE¼SE¼ and S½SE¼;

Sec. 3, S½SW¼ and S½SE¼;

Sec. 4, SE¼SE¼;

Sec. 9, NE¼NE¼, S½NE¼, and N½SE¼;

Secs. 10 thru 12;

Sec. 13, N½NE¼.

T. 4 N., R. 13 W., unsurveyed

Sec. 35, SE¼NE¼ and E½SE¼;

Sec. 36, NW¼ and S½.

The area described contains 3,919.56 acres, according to the official plats of the surveys of the said lands and protraction diagram on file with the BLM.

Parker Solar Project

Gila and Salt River Meridian, Arizona

T. 8 N., R. 19 W.,

Sec. 13, W½NW¼ and W½SW¼;

Sec. 14, NE¼, E½NW¼, NE¼SW¼, S½SW¼, and SE¼;

Sec. 23;

Sec. 24, W½NW¼ and W½SW¼;

Sec. 25, NW¼;

Sec. 26, N½.

The area described contains 1,960 acres, according to the official plat of the survey of said land on file with the BLM.

Eagle Eye Solar Project

Gila and Salt River Meridian

T. 6 N., R. 12 W.,

Sec. 1, lots 1 thru 4, S½NE¼, S½NW¼, and N½SW¼;

Sec. 2, lots 1 thru 4, S½NE¼, S½NW¼, SW¼, N½SE¼, and SW¼SE¼;

Sec. 3;

Sec. 4, lots 1 thru 4, S½NE¼, S½NW¼, N½SW¼, SE¼SW¼, and SE¼;

Sec. 9, W½NE¼ and E½NW¼;

Sec. 10, NE¼;

Sec. 11, N½ and N½SE¼;

Sec. 12, W½NW¼.

T. 7 N., R. 12 W.,

Sec. 26, S½SW¼ and SW¼SE¼;

Sec. 27, W½SW¼ and SE¼SW¼;

Sec. 28, S½;

Sec. 29, E½SE¼;

Sec. 32, E½NE¼;

Secs. 33 thru 35.

The area described contains 5,680.72 acres, according to the official plats of the surveys of the said lands on file with the BLM.

As provided in the regulations, the segregation of lands in this notice will not exceed 2 years from the date of publication unless extended for an additional 2 years through publication of a new notice in the Federal Register. The segregation period will terminate and the land will automatically reopen to appropriation under the public land laws, including the Mining Law, at the earliest of the following dates: upon issuance of a decision by the authorized officer granting, granting with modifications, or denying the application for a right-of-way automatically at the end of the segregation; or upon publication of a Federal Register notice terminating the segregation.

Upon termination of the segregation of these lands, all lands subject to this segregation would automatically reopen to appropriation under the public land laws, including the Mining Law.

Authority: 43 CFR 2091.3-1(e) and 43 CFR 2804.25(f)

Raymond Suazo,
State Director—Arizona State Office.

[FR Doc. 2024-21734 Filed 9-23-24; 8:45 am]

BILLING CODE 4310-32-P